DEPARTMENT OF HEALTH AND HUMAN SERVICES

Centers for Disease Control and Prevention and Agency for Toxic Substances and Disease Registry

[Program Announcement 00075]

Announcement of a Cooperative Agreement WAith the Association of American Medical Colleges (AAMC) To Strengthen the Collaboration Between the Disciplines of Medicine and Public Health; Notice of Availability of Funds

A. Purpose

The Centers for Disease Control and Prevention (CDC) and the Agency for Toxic Substances and Disease Registry (ATSDR) announce the availability of fiscal year (FY) 2000 funds for a cooperative agreement with the Association of American Medical Colleges (AAMC). CDC and ATSDR (hereinafter referred to as CDC) are committed to achieving the health promotion and disease prevention objectives of “Healthy People 2010”, a national activity to reduce morbidity and mortality and improve the quality of life. This announcement is related to all “Healthy People 2010” focus areas.

The purpose of the program is to help strengthen the collaborations between the disciplines of medicine and public health. Medicine and public health are two interdependent disciplines that diverged in practice and training during the last century; however, new efforts have been initiated to increase and to improve their collaborative activities in the new century. In light of the changing health care system and the evolving challenges to public health, future physicians need a better understanding of public health. This program will strive to train the medical community on the needs of public health issues.

B. Eligible Applicant

Assistance will be provided only to the Association of American Medical Colleges (AAMC). No other applications are solicited. AAMC is uniquely qualified to be the recipient organization for the following reasons:

1. The AAMC's mission is to improve the health of the public by enhancing the effectiveness of academic medicine through educating the physician and medical scientist workforce, discovering new medical knowledge, developing innovative technologies for prevention, diagnosis and treatment of disease, and providing health care services in an academic setting. AAMC's principal purpose is to promote and improve the education and training of professional medical practitioners. AAMC has the requisite institutional knowledge of the needs of the schools of medicine. AAMC conducts periodic assessments of the status and needs of their member organizations, including medical schools and academic medical centers.

2. AAMC, a non-profit association, represents all the 125 schools of allopathic medicine in the United States that are accredited by the Liaison Committee on Medical Education. These schools represent the primary educational system that provides the Nation's physicians with their undergraduate medical education.

3. With the active participation of the deans of the medical schools, the AAMC is the only organization that can comprehensively affect the development and implementation of improved disease prevention and health promotion curricula in all accredited schools of medicine, and provide opportunities for students, faculty, and researchers to incorporate the perspectives of public health, and disease prevention and health promotion.

4. AAMC provides leadership both nationally and internationally in an effort to achieve excellence in undergraduate medical education. Through its Divisions of Biomedical and Health Sciences Research, Community and Minority programs, and Medical Education, as well as its participation in the Liaison Committee on Graduate Medical Education, AAMC is well positioned to address and resolve issues that promote and support implementation of training strategies.

5. AAMC has attained a prominent position among national health professional associations. AAMC currently sponsors national meetings designed specifically for the faculty of medical schools and academic medical centers, to address contemporary issues in medical education and research.

6. AAMC member organizations also include academic medical centers (that house the majority of the medical residency programs—graduate medical education), academic and professional societies (representing 75,000 faculty members), medical student representatives, and resident representatives.

7. AAMC provides unique opportunities for medical and public health academicians, practitioners, and researchers to share their experience and expertise; to facilitate incorporation of the theoretical and practical perspectives of public health into curricula for teaching prevention, health promotion, and preventive medicine; and to stimulate participation by medical institutions in prevention research.

Note: Public Law 104-65 states that an organization described in section 501(c)(4) of the Internal Revenue Code of 1986 that engages in lobbying activities is not eligible to receive Federal funds constituting an award, grant, cooperative agreement, contract, loan, or any other form of financial assistance.

C. Availability of Funds

Approximately $300,000 is available in FY 2000 to fund this award. It is anticipated that the award will begin on or before September 30, 2000, and will be made for a 12-month budget period within a project period of up to five years. Funding estimates may change.

Continuation awards within an approved project period will be made on the basis of satisfactory progress as evidenced by required reports and the availability of funds.

D. Where To Obtain Additional Information

For business management assistance, contact: Juanita D. Crowder, Grants Management Specialist, Grants Management Branch, Procurement and Grants Office, Centers for Disease Control and Prevention, 2920 Brandywine Road, Room 3000, Atlanta, Georgia 30341-4146, Telephone: (770) 488-2734, E-mail address: jdd2@cdc.gov.

For you assistance with forms, please refer to the following Internet site: The CDC Internet home page is http://www.cdc.gov.

For a program technical assistance, contact; Rika Maeshiro, Senior Preventive Medicine Advisor, Public Health Practice Program Office (PHPPO), Centers for Disease Control and Prevention, 4770 Buford Hwy. (K-38), Atlanta, Georgia 30341-3724, Telephone: (770) 488-2508, E-mail address: rmaeshiro@cdc.gov.

Henry S. Cassell, III,
Acting Director, Procurement and Grants Office, Centers for Disease Control and Prevention (CDC).

[FR Doc. 00-14833 Filed 6-12-00; 8:45 am]

BILLING CODE 4163-18-P